SMALL BUSINESS ADMINISTRATION

[Disaster Declaration #13309 and #13310]

West Virginia Disaster Number WV-00029

AGENCY: U.S. Small Business Administration.

ACTION: Amendment 2.

SUMMARY: This is an amendment of the Presidential declaration of a major disaster for the State of West Virginia (FEMA-4071-DR), dated 09/19/2012.

Incident: Severe storms and straight-line winds.

Incident Period: 06/29/2012 through 07/08/2012.

Effective Date: 11/19/2012.

Physical Loan Application Deadline Date: 12/19/2012.

EIDL Loan Application Deadline Date: 06/19/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of West Virginia, dated 09/19/2012 is hereby amended to extend the deadline for filing applications for physical damages as a result of this disaster to 12/19/2012.

All other information in the original declaration remains unchanged.

(Catalog of Federal Domestic Assistance Numbers 59002 and 59008)

James E. Rivera,
Associate Administrator for Disaster Assistance.

[FR Doc. 2012-29136 Filed 11-30-12; 8:45 am]

BILLING CODE 8025-01-P